DEPARTMENT OF COMMERCE

Submission for OMB Review; Comment Request

The Department of Commerce (DOC) will submit to the Office of Management and Budget (OMB) for clearance the following proposal for collection of information under the provision of the Paperwork Reduction Act of 1995, Public Law 104-13.

Bureau: International Trade Administration.

Title: U.S. Government Trade Event Information Request.

OMB Number: 0625-0238.

Agency Form Number: ITA-4136P.

Type of Request: Regular submission.

Burden: 20 hours.

Number of Respondents: 20.

Average Hours per Response: 1 hour.

Needs and Uses: The International Trade Administration's Advocacy Center marshals federal resources to assist U.S. firms competing for foreign government procurements worldwide. The Advocacy Center works closely with the Trade Promotion Coordination Committee (TPCC), which is chaired by the Secretary of Commerce and includes 19 federal agencies involved in export promotion. Advocacy assistance is wide and varied, but most often is employed to assist U.S. commercial interests that must deal with foreign governments or government-owned corporations to win or maintain business transactions in foreign markets. The U.S. government Trade Information Request is at the core of the President's National Export Strategy and its goal to show U.S. support at key events for American companies in the international marketplace.

The purpose of the Advocacy Trade Information Request Form is to evaluate senior-level U.S. Government (USG) witnessing requests of a commercial milestone, designed to highlight a company's commercial success in an overseas project or procurement competition. The Advocacy Center, appropriate ITA officials, U.S. Embassies/Consulates worldwide, and other federal government agencies that provide advocacy support to U.S. firms, will request firm(s) seeking USG advocacy support to complete the Trade Information Request Form. This information is needed to ensure that the subject milestone to be witnessed is either a legally binding contract or a commercially significant announcement, which includes highlighted U.S. export content. The information derived from a completed form is critical in helping the Advocacy Center determine whether it is in the U.S. national interest to advocate a specific milestone.

Affected Public: Businesses or other for-profit organizations.

Frequency: On occasion.

Respondent's Obligation: Required to obtain or retain a benefit.

OMB Desk Officer: David Rostker, (202) 395-7340.

Copies of the above information collection proposal can be obtained by writing Diana Hynek, Departmental Paperwork Clearance Officer, Department of Commerce, Room 6625, 14th Street, and Constitution Avenue, NW., Washington, DC 20230. E-mail: dHynek@doc.gov.

Written comments and recommendations for the proposed information collection should be sent within 30 days of the publication of this notice to David Rostker, OMB Desk Officer, at David_Rostker@omb.eop.gov or fax number (202) 395-7285.

Dated: March 23, 2007.
Gwellnar Banks,
Management Analyst, Office of the Chief Information Officer.

[FR Doc. E7-5724 Filed 3-28-07; 8:45 am]

BILLING CODE 3510-FP-P